GENERAL SERVICES ADMINISTRATION

41 CFR Parts 300-70 and 302-1

[FTR Case 2009-306; Docket 2009-0011, Sequence 1]

RIN 3090-AI94

Federal Travel Regulation (FTR); FTR Case 2009-306; Relocation Allowances

AGENCY: Office of Governmentwide Policy (OGP), General Services Administration (GSA).

ACTION: Proposed rule.

SUMMARY: This proposed rule defines a process for collecting transaction-level data regarding relocation of Federal civilian employees. Specifically, this proposed rule would require that agencies that spend more than $5 million per year on travel and relocation send transaction-level data on relocation to GSA at least quarterly. GSA will store this data in a data warehouse that the agencies will be able to query to answer operational, managerial, and policy questions. In addition to the transaction-level reporting process, this proposed rule also would establish an annual reporting requirement for data regarding employee relocation and would modify the existing requirement for large agencies to collect and report data on temporary duty travel on an annual basis, instead of biennially.

DATES: Comments must be received on or before December 21, 2009.

ADDRESSES: Submit comments identified by FTR case 2009-306 by any of the following methods:

• Federal eRulemaking Portal: http://www.regulations.gov. Search for any document by typing in the FTR case number (for example, FTR case 2009-306) and clicking on the “Go” button.

• Fax: 202-501-4067.

• Mail: General Services Administration, Regulatory Secretariat (MVPR), 1800 F Street, NW., Room 4041, ATTN: Hada Flowers, Washington, DC 20405.

Instructions: Please submit comments only and cite FTR case 2009-306 in all correspondence related to this case. All comments received will be posted without change to http://www.regulations.gov, including any personal information provided.

FOR FURTHER INFORMATION CONTACT: For clarification of content, contact Mr. Henry Maury, OGP, Office of Travel, Transportation, and Asset Management, at (202) 208-7928. For information pertaining to status or publication schedules contact the Regulatory Secretariat (MVPR), Room 4041, 1800 F Street, NW., Washington, DC 20405, (202) 501-4755. Please cite FTR case 2009-306.

SUPPLEMENTARY INFORMATION:

A. Background

In 1986, Congress amended 5 U.S.C. 5707 for travel and relocation by mandating that GSA collect and report data from certain Federal agencies (Pub. L. 99-234). This mandate expired in 1991 but was permanently reinstated in 1994 by Public Law 103-329, Sec. 634(c), 5 U.S.C. 5707(c). In summary, the current statute states:

• The Administrator of General Services shall submit to the Office of Management and Budget (OMB), at least once every two years, a report on agency spending on temporary duty travel and relocation.

• The report shall be an analysis of estimated total agency payments for items such as travel, transportation, average cost and duration of trips, purposes of official travel, and estimated total agency payments for relocation.

• The report shall be based on a sampling survey of agencies that spent more than $5 million during the previous fiscal year on travel and relocation combined.

• The agencies that spent more that $5 million during the previous fiscal year shall provide the necessary information to GSA in a format prescribed by GSA.

GSA has surveyed the agencies, in accordance with this statute, several times since 1994. The results have not been useful. The governmentwide totals were clearly far less than the actual governmentwide expenditures as estimated by GSA, OMB, and the trade press.

One explanation for the lack of data is that agencies had no way to gather it at a reasonable cost. For both temporary duty travel and relocation, the agencies found it impossible to provide complete and reliable answers to the questions because they had no central repository for this data. Instead, agencies had to survey each of the thousands of locations where travel or relocation orders were authorized and, in most cases, they had to actually copy and add the values from paper copies of travel and relocation orders.

Today, all documentation for travel and relocation should be fully automated, so it should be much easier to collect complete and reliable data. For temporary duty travel, agencies are in the final stages of migrating to eTravel systems, which can provide the required data easily. For employee relocation, GSA expects shortly to publish a final rule that urges agencies to move to comprehensive, automated, relocation management systems, which again should be able to provide the data that they are required to report.

Data collection processes for travel and relocation should provide:

1. Accurate, complete, transparent, and reliable totals of expenditures that can be tracked year-to-year, on an agencywide and governmentwide basis.

2. Accurate, complete, transparent, and reliable totals of the major components of travel and relocation, such as lodging, air travel, household goods shipments, residence transaction reimbursements, etc., also with enough consistency that they can be tracked year-to-year.

3. Enough detail that Federal agencies, GSA, OMB, Congress, and the public can analyze the information, identify policies that perhaps ought to be adjusted, determine whether those policy levers actually should be moved, and determine the direction and amplitude of appropriate changes in policy (a policy lever in this context is a point at which the statute or regulation allows, or should allow, GSA or agency relocation managers to make adjustments in response to changes in the market, changes in relocation patterns, etc.).

For example, household goods shipments have been limited to 18,000 pounds per household at least since 1966, but GSA has never had data to determine whether the current statutory weight limitation should be higher, lower, or tiered in some fashion. Transaction-level data would allow GSA to answer these questions, as well as similar questions about many other current provisions.

This proposed rule would replace the existing reporting process described in FTR part 300-70 with separate reporting requirements for temporary duty travel and employee relocation. The travel reporting requirement would remain in FTR part 300-70, but the employee relocation reporting requirement would now be in FTR part 302-1.

For temporary duty travel, GSA's Federal Acquisition Service is building a data warehouse with information derived from vouchers in the eTravel systems, Travel Management Services, banks that issue the Government's travel charge cards, and other sources. This warehouse, when it is fully operational, will allow the agencies, GSA, OMB, and Congress to answer a wide range of questions about temporary duty travel. In the meantime, this proposed rule would simplify the requirements in FTR part 300-70, stating only that GSA will provide the required data elements, report format, and due dates in an FTR bulletin. This proposed rule would also change the reporting requirement for temporary duty travel from biennial to annual.

For employee relocation, GSA and the Executive Relocation Steering Committee (ERSC, a Governmentwide body chartered and chaired by GSA) have determined that the only way to ensure the accuracy described in paragraph numbers 1 and 2, above, and to provide the detail required by paragraph number 3, is to collect transaction-level information. GSA's OGP is building a data warehouse to store this information and make it available to appropriate parties. This proposed rule would establish the basic requirements for the affected agencies to gather and send the necessary, transaction-level information to GSA.

Concurrent with this proposed rule, GSA is publishing a Notice in this Federal Register. The Notice announces and requests comments on this proposed rule and a proposed FTR Bulletin. The proposed FTR bulletin itself can be viewed on GSA's Web site, at http://www.gsa.gov/relo; it consists primarily of a data dictionary, with the list of data elements, field lengths, coding, definitions, and suggested data sources that the affected agencies would be required to report. GSA would update this FTR bulletin whenever GSA and the ERSC determine that a change is needed.

This proposed rule would also establish an annual reporting requirement for employee relocation data. At first glance, this requirement may seem redundant, since the agencies will be providing the data to GSA's data warehouse, and then presumably will be extracting summary data from that warehouse for the annual report; however, it is not redundant because it has very different objectives. The objectives of the annual reporting requirement are:

1. To have a senior executive at each agency ensure the accuracy, completeness, and reliability of the data that the agency has sent to the warehouse; and

2. To make those executives cognizant of the full extent of their agencies' relocation programs.

GSA expects to publish the details of the annual reporting requirement (data elements, format, due date, etc.), along with details of the transaction-level process, in a second FTR bulletin. This second bulletin will be fully coordinated with the ERSC before publication, and it will also be updated as necessary. GSA is postponing this second Bulletin because it would not be reasonable to require annual reports until a majority of agencies are sending transaction data to the data warehouse.

The statute, at 5 U.S.C. 5707(c), as summarized above, states that The Administrator of General Services shall submit to OMB, at least once every two years, a report on agency spending on temporary duty travel and relocation. GSA believes that requiring the transaction-level data collection process and annual reporting by agencies will allow GSA to compile the necessary data to fulfill the statute's intent within the timeframes prescribed. The intent of the statute is to make Federal relocation data transparent to all interested parties and, thereby, to make it much easier for OMB, GSA, and Federal agency executives to manage relocation more efficiently and effectively. It is clear from the Governmentwide Relocation Advisory Board report and from the analysis by the GSA and the ERSC that only a transaction-level reporting process can accomplish this intent.

GSA's intention is to make this rule effective on the date that the final rule is published in the Federal Register. GSA recognizes that many agencies will not be able to fulfill the requirements immediately. GSA also notes, however, that since 1994 (and previously, 1985-1991) 5 U.S.C. 5707(c) has required that agencies spending more than $5 million per year on travel and relocation be able to provide data to GSA, so that GSA could fulfill its reporting requirements. Several private sector companies sell systems that agencies can use to collect and send the data described in the proposed FTR Bulletin associated with this proposed rule, and a number of agencies have agency-developed systems that can be modified to collect and send the required data. GSA will work closely with the affected agencies to help them fulfill the requirement once issued as a final rule.

B. Proposed Rule

This proposed rule would change the reporting requirement for data regarding temporary duty and employee relocation from biennial to annual, and it would add a requirement that agencies submit selected data from every employee relocation transaction to the GSA relocation data warehouse.

C. Changes to Current FTR

This proposed rule would replace FTR sections 300-70.1, 300-70.2, and part 302-1, subpart B, in their entirety.

D. Executive Order 12866

This proposed rule is excepted from the definition of “regulation” or “rule” under section 3(d)(3) of Executive Order 12866, Regulatory Planning and Review, dated September 30, 1993, and therefore, was not subject to review under section 6(b) of that Executive Order.

E. Regulatory Flexibility Act

This proposed rule is not required to be published in the Federal Register for notice and comment as per the exemption specified in 5 U.S.C. 553(a)(2); therefore, the Regulatory Flexibility Act, 5 U.S.C. 601, et seq., does not apply.

F. Paperwork Reduction Act

The Paperwork Reduction Act does not apply because these proposed changes to the FTR do not impose information collection requirements that require the approval of OMB under 44 U.S.C. 3501, et seq.

G. Small Business Regulatory Enforcement Fairness Act

This proposed rule is also exempt from congressional review under 5 U.S.C. 801 since it relates solely to agency management and personnel.

List of Subjects in 41 CFR Parts 300-70 and 302-1

Agency Reporting Requirements and General Rules.

Dated: June 29, 2009.
Stan Kaczmarczyk,
Acting Associate Administrator, Office of Governmentwide Policy.

For the reasons set forth in the preamble, pursuant to 5 U.S.C. 5701-5709, GSA proposes to amend 41 CFR Parts 300-70 and 302-1 as set forth below:

PART 300-70—AGENCY REPORTING REQUIREMENTS

1. The authority citation for 41 CFR Part 300-70 continues to read as follows:

Authority: 5 U.S.C. 5707; 5 U.S.C. 5738; 5 U.S.C. 5741-5742; 20 U.S.C. 905(a); 31 U.S.C. 1353; 40 U.S.C. 121(c); 49 U.S.C. 40118; E.O. 11609, 3 CFR, 1971-1975 Comp., p. 586.

2. Revise § 300-70.1 to read as follows:

§ 300-70.1 What are the requirements for reporting payments for employee travel and relocation?

Agencies (as defined in § 301-1.1 of this title) that spent more than $5 million on travel and transportation payments, including relocation, during the fiscal year immediately preceding the report due date, must report such total agency payments as described in this regulation.

(a) Specific information on reporting payments for temporary duty travel are in this subpart.

(b) Specific information on reporting payments for employee relocation are in Part 302-1, Subpart B.

3. Revise § 300-70.2 to read as follows:

§ 300-70.2 What information must we report, and when must we report it?

GSA provides the list of data elements, the report formats, and the due dates in a series of FTR bulletins. GSA coordinates these FTR bulletins with the affected agencies and updates them as needed. FTR bulletins are available through: http://www.gsa.gov/ftrbulletins.

PART 302-1—GENERAL RULES

4. The authority citation for 41 CFR part 302-1 is revised to read as follows:

Authority: 5 U.S.C. 5707(c); 5 U.S.C. 5738; 20 U.S.C. 905(a).

5. Add subpart B to part 302-1 to read as follows:

Subpart B—Reporting Requirements
Sec.
302-1.100 [Reserved]
302-1.101 [Reserved]
302-1.102 Are we required to report to GSA on employee relocation activities?
302-1.104 What data must we provide to the GSA relocation data warehouse?
302-1.105 When must we collect the data for the GSA relocation data warehouse?
302-1.106 When must we send the data to the GSA relocation data warehouse?
302-1.107 What data must we send to GSA in our annual report?
302-1.108 Who must sign the annual report?
302-1.109 May an agency report at the bureau level?

Subpart B—Reporting Requirements

§ 302-1.100 [Reserved]

§ 302-1.101 [Reserved]

§ 302-1.102 Are we required to report to GSA on employee relocation activities?

Yes, every agency that spent more than $5 million during the preceding fiscal year on travel and transportation payments, including relocation, must report to GSA on their employee relocation activities, as provided in this subpart. Agencies that spend $5 million per year or less are also welcome to participate.

§ 302-1.103 What data collection processes will GSA employ for employee relocation?

(a) GSA collects transaction-level data, which is stored in a data warehouse and made available for analysis to appropriate officials.

(b) In addition, reporting agencies must submit annual summary reports to GSA, signed by a senior executive as specified in FTR 302-1.108.

§ 302-1.104 What data must we provide to the GSA relocation data warehouse?

GSA works with the affected agencies to develop the data elements and report format for this information, and publishes the specific requirements in a series of FTR bulletins. These bulletins provide the data dictionary and details on the reporting processes (i.e., annual and transactional). FTR bulletins are available through http://www.gsa.gov/ftrbulletins.

§ 302-1.105 When must we collect the data for the GSA relocation data warehouse?

The affected agencies must collect the data elements listed in the data dictionary from every relocation transaction that includes one or more of the required data elements. This includes all travel authorizations for relocation, plus allowances, reimbursements, and direct payments to vendors.

§ 302-1.106 When must we send the data to the GSA relocation data warehouse?

The affected agencies must send the specified data to the GSA warehouse at least quarterly. There is no maximum frequency; agencies may send data to the warehouse daily if they choose to do so.

§ 302-1.107 What data must we send to GSA in our annual report?

GSA specifies the data elements, format, and due date for the current annual report in an FTR bulletin. FTR bulletins are available through http://www.gsa.gov/ftrbulletins.

§ 302-1.108 Who must sign the annual report?

The annual report must be signed by a senior executive who has the authority to ensure that the data provided to the data warehouse and in the annual report are accurate, complete, and reliable.

§ 302-1.109 May an agency report at the bureau level?

Yes, an agency may send multiple reports from different bureaus or components, so long as the sum of all those reports represents all relocation activity in the agency.

[FR Doc. E9-25334 Filed 10-20-09; 8:45 am]

BILLING CODE 6820-14-P